DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains and associated funerary objects in the possession of the Slater Museum of Natural History, University of Puget Sound, Tacoma, WA. The human remains and associated funerary objects were removed from Pierce County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Slater Museum of Natural History, University of Puget Sound professional staff and a consultant in consultation with representatives of the Muckleshoot Indian Tribe of the Muckleshoot Reservation, Washington; Nisqually Indian Tribe of the Nisqually Reservation, Washington; Puyallup Tribe of the Puyallup Reservation, Washington; and Squaxin Island Tribe of the Squaxin Island Reservation, Washington.

In 1956, human remains representing a minimum of one individual were removed from Connell's Prairie, near Buckley in Pierce County, WA, by John Bonifas and LaMar Hathaway while digging fence post holes. The human remains were donated by the Pierce County Sherriff to the museum in 1956. No known individual was identified. The two associated funerary objects are one bead and one silver ball.

The human remains were reviewed and determined to be Native American based upon cranial deformation and tooth wear. The red glass seed bead was found in the sediments with the human remains, whereas the metal ball was found with the human remains during a museum inventory, but not recorded as found with the human remains at the time of removal. However, both objects are determined to be associated funerary objects. The Pierce County Sherriff's report states the human remains were discovered approximately two feet below the surface. Archeological evidence supports the presence of Osceola mudflows at a depth of two feet across the prairie that occurred approximately 5,000 years ago, suggesting the human remains could be approximately 5,000 years old. However, due to the presence of the glass seed bead, the human remains most likely date to the 1800s, at which time glass trade beads would have been available at nearby locations such as Fort Steilacoom.

Connell's Prairie is located west of Naches Pass, a historic pass connecting Puget Sound's Fort Steilacoom and eastern Washington where a wagon road was built in 1853 which originated at Fort Steilacoom and moved east across Connell's Prairie to Naches Pass. Archeological evidence suggests the prairie was used by both western and eastern Washington Native American groups who traveled along the trails and roads through the prairie between Puget Sound and eastern Washington. In addition, there is a recorded ethnographic village to the south of Connell's Prairie, which is associated with both the Muckleshoot and Puyallup Tribes. The Indian Claims Commission determined Connell's Prairie to be outside the exclusive treaty-time territory of any Native American tribe. Connell's Prairie was also the site of several events during the 1855-1856 Treaty Wars between various Native American groups and the U.S. Government. Native American participants in these wars include members of the present-day Muckleshoot Indian Tribe of the Muckleshoot Reservation, Washington; Nisqually Indian Tribe of the Nisqually Reservation, Washington; and Puyallup Tribe of the Puyallup Reservation, Washington. Based on physical anthropological evidence, historic documentation, and associated funerary objects, the human remains are reasonably believed to be Native American and have a shared group relationship with the Muckleshoot Indian Tribe of the Muckleshoot Reservation, Washington; Nisqually Indian Tribe of the Nisqually Reservation, Washington; and/or Puyallup Tribe of the Puyallup Reservation, Washington.

Officials of the Slater Museum have determined that, pursuant to 25 U.S.C. 3001 (9-10), the human remains described above represent the physical remains of one individual of Native American ancestry. Officials of the Slater Museum also have determined that, pursuant to 25 U.S.C. 3001 (3)(A), the two objects described above are reasonably believed to have been placed with or near individual human remains at the time of death or later as part of the death rite or ceremony. Lastly, officials of the Slater Museum have determined that, pursuant to 25 U.S.C. 3001 (2), there is a relationship of shared group identity that can be reasonably traced between the Native American human remains and associated funerary objects and the Muckleshoot Indian Tribe of the Muckleshoot Reservation, Washington; Nisqually Indian Tribe of the Nisqually Reservation, Washington; and Puyallup Tribe of the Puyallup Reservation, Washington.

Representatives of any other Indian tribe that believes itself to be culturally affiliated with the human remains and associated funerary objects should contact Peter Wimberger, Director, Slater Museum of Natural History, University of Puget Sound, 1500 N. Warner, Tacoma, WA 98416, telephone (253) 879-2784, before February 14, 2008. Repatriation of the human remains and associated funerary objects to the Muckleshoot Indian Tribe of the Muckleshoot Reservation, Washington; Nisqually Indian Tribe of the Nisqually Reservation, Washington; and Puyallup Tribe of the Puyallup Reservation, Washington may proceed after that date if no additional claimants come forward.

The Slater Museum is responsible for notifying the Muckleshoot Indian Tribe of the Muckleshoot Reservation, Washington; Nisqually Indian Tribe of the Nisqually Reservation, Washington; Puyallup Tribe of the Puyallup Reservation, Washington; and Squaxin Island Tribe of the Squaxin Island Reservation, Washington that this notice has been published.

Dated: December 7, 2007
Sherry Hutt,
Manager, National NAGPRA Program.

[FR Doc. E8-560 Filed 1-14-08; 8:45 am]

BILLING CODE 4312-50-S